FEDERAL HOUSING FINANCE BOARD

[No. 2003-N-05]

Privacy Act of 1974; System of Records

AGENCY: Federal Housing Finance Board.

ACTION: Notice with request for comments.

SUMMARY: In accordance with the Privacy Act of 1974 (Privacy Act), the Federal Housing Finance Board (Finance Board) is providing notice of its intent to amend its system of records to reflect agency reorganizations and regulatory changes and to add a new system of records covering Office of Inspector General investigative files.

Elsewhere in this issue of the Federal Register, the Finance Board is publishing an interim final rule with request for comments that revises the agency's Privacy Act regulation to reflect an agency reorganization in which responsibility and authority for running the agency's Privacy Act program was transferred to the Office of General Counsel. The Finance Board also is revising the rule to make it more “user-friendly” by using plain language and, where appropriate, a question-and-answer format.

DATES: This amendment will become effective as proposed without further notice on August 4, 2003 unless comments dictate otherwise. The Finance Board will accept comments in writing on or before August 4, 2003.

ADDRESSES: Send comments by electronic mail to comments@fhfb.gov, by facsimile to 202/408-2580, or by regular mail to the Federal Housing Finance Board, 1777 F Street, NW., Washington, DC 20006, ATTN: PUBLIC COMMENTS. Comments will be available for public inspection at this address.

FOR FURTHER INFORMATION CONTACT: Janice A. Kaye, Senior Attorney-Advisor, Office of General Counsel, by telephone at 202/408-2505, by electronic mail at kayej@fhfb.gov, or by regular mail at the Federal Housing Finance Board, 1777 F Street, NW., Washington, DC 20006.

SUPPLEMENTARY INFORMATION: Pursuant to the requirements of the Privacy Act, the Finance Board is publishing a notice of an amendment to its system of records. See 5 U.S.C. 552a(e)(4) and (11). Some of the changes are being made to reflect agency reorganizations. More specifically, the Finance Board is amending its system of records to reflect the following changes:

• Responsibility for administering the Finance Board's Privacy Act program was transferred to the Office of General Counsel. As part of the transfer of responsibility, an OGC staff member has replaced the Secretary to the Board of Directors as the Finance Board's Privacy Act Official.

• The name of the Office of Resource Management has been changed to the Office of Management.

• The duties of the Personnel Security Officer have been transferred from the Office of General Counsel to the Office of Management.

• The Office of the Chairman assumed the duties of the former Office of Public Affairs, which was abolished in August 2002, and certain records maintained by the former Office of Public Affairs were eliminated.

The Finance Board also is amending its system of records to reflect a reorganization and renumbering of the agency's regulations. See 65 FR 8253 (February 18, 2000).

Since the Finance Board's Privacy Act rule includes an exemption for certain records contained in Office of Inspector General (OIG) investigative files, the notice adds a new system of records covering OIG investigative records.

For the reasons stated above, the Finance Board hereby amends its system of records originally published in the Federal Register in September 1995, see 60 FR 46120 (September 5, 1995), as amended in December 1997, see 62 FR 66865 (December 22, 1997) and December 1998, see 62 FR 66865 (December 22, 1997), as follows:

1. Amend the system of records entitled FHFB-1 Employee Attendance Records as follows:

FHFB-1

System name:

Employee Attendance Records.

* * * * *

Routine uses of records maintained in the system, including categories of users and the purpose of such uses:

These records, or information therefrom, may be disclosed as a routine use to:

* * * * *

5. In the event the information in the system of records indicates a violation or potential violation of a criminal or civil law, rule, or regulation, the relevant records may be disclosed to the appropriate federal, state, or local agency or authority responsible for investigating or prosecuting such a violation or for enforcing or implementing a statute, rule or regulation.

6. A court, magistrate or administrative tribunal in the course of presenting evidence, including disclosures to counsel or witnesses in the course of civil discovery, litigation, or settlement negotiations or in connection with criminal proceedings.

* * * * *

Policies and practice for storing, retrieving, accessing, retaining and disposing of records in the system:

* * * * *

Retention and disposal:

1. Leave application files (i.e., SF71s or equivalent and supporting documentation) are destroyed after three years or GAO audit, whichever is sooner.

2. Time and attendance source records and input records are destroyed after six years or GAO audit, whichever is sooner.

System manager(s) and address:

Office of Management, Federal Housing Finance Board, 1777 F Street, NW., Washington, DC 20006.

Notification procedure:

Direct inquiries as to whether this system contains a record pertaining to an individual to the Privacy Act Official, Federal Housing Finance Board, 1777 F Street, NW., Washington, DC 20006, in accordance with the procedures set forth in 12 CFR part 913.

Record access procedures:

Direct requests for access to a record to the Privacy Act Official, Federal Housing Finance Board, 1777 F Street, NW, Washington, DC 20006, in accordance with the procedures set forth in 12 CFR part 913.

Contesting record procedures:

Direct requests to amend a record to the Privacy Act Official, Federal Housing Finance Board, 1777 F Street, NW, Washington, DC 20006, in accordance with the procedures set forth in 12 CFR part 913.

* * * * *

2. Amend the system of records entitled FHFB-2 General Travel and Transportation Files as follows:

FHFB-2

System name:

General Travel and Transportation Files.

* * * * *

Categories of individuals covered by the system:

1. Current and former Finance Board employees.

2. Individuals invited to travel by the Finance Board, including individuals traveling to the Finance Board for pre-employment interviews and individuals invited to attend a Finance Board ceremony, meeting or similar event.

* * * * *

Routine uses of records maintained in the system, including categories of users and the purpose of such uses:

These records, or information therefrom, may be disclosed as a routine use to:

* * * * *

3. In the event the information in the system of records indicates a violation or potential violation of a criminal or civil law, rule, or regulation, the relevant records may be disclosed to the appropriate federal, state, or local agency or authority responsible for investigating or prosecuting such a violation or for enforcing or implementing a statute, rule or regulation.

4. A court, magistrate or administrative tribunal in the course of presenting evidence, including disclosures to counsel or witnesses in the course of civil discovery, litigation, or settlement negotiations or in connection with criminal proceedings.

* * * * *

6. Another federal agency in response to a request made in connection with the hiring or retention of an individual, the issuance of a security clearance, the reporting of an investigation of an individual, the letting of a contract or issuance of a grant, license or other benefit by the requesting agency, but only to the extent that the information disclosed is necessary and relevant to the requesting agency's decision on the matter.

7. A congressional office in response to an inquiry made at the request of the subject individual.

* * * * *

Policies and practice for storing, retrieving, accessing, retaining and disposing of records in the system:

* * * * *

System manager(s) and address:

Office of Management, Federal Housing Finance Board, 1777 F Street, NW., Washington, DC 20006.

Notification procedure:

Direct inquiries as to whether this system contains a record pertaining to an individual to the Privacy Act Official, Federal Housing Finance Board, 1777 F Street, NW., Washington, DC 20006, in accordance with the procedures set forth in 12 CFR part 913.

Record access procedures:

Direct requests for access to a record to the Privacy Act Official, Federal Housing Finance Board, 1777 F Street, NW., Washington, DC 20006, in accordance with the procedures set forth in 12 CFR part 913.

Contesting record procedures:

Direct requests to amend a record to the Privacy Act Official, Federal Housing Finance Board, 1777 F Street, NW, Washington, DC 20006, in accordance with the procedures set forth in 12 CFR part 913.

* * * * *

3. Amend the system of records entitled FHFB-3 Administrative Grievance Files as follows:

FHFB-3

System name:

Administrative Grievance Files.

* * * * *

Policies and practice for storing, retrieving, accessing, retaining and disposing of records in the system:

* * * * *

System manager(s) and address:

Office of Management, Federal Housing Finance Board, 1777 F Street, NW., Washington, DC 20006.

Notification procedure:

Direct inquiries as to whether this system contains a record pertaining to an individual to the Privacy Act Official, Federal Housing Finance Board, 1777 F Street, NW, Washington, DC 20006, in accordance with the procedures set forth in 12 CFR part 913.

Record access procedures:

Direct requests for access to a record to the Privacy Act Official, Federal Housing Finance Board, 1777 F Street, NW., Washington, DC 20006, in accordance with the procedures set forth in 12 CFR part 913.

Contesting record procedures:

Direct requests to amend a record to the Privacy Act Official, Federal Housing Finance Board, 1777 F Street, NW, Washington, DC 20006, in accordance with the procedures set forth in 12 CFR part 913.

* * * * *

4. Amend the system of records entitled FHFB-4 Federal Home Loan Bank Appointive Director Eligibility Certification Forms as follows:

FHFB-4

System name:

Federal Home Loan Bank Appointive Director Eligibility Certification Forms.

* * * * *

Categories of individuals covered by the system:

Current Federal Home Loan Bank (FHLBank) appointive directors and candidates for appointment.

Categories of records in the system:

Records contain certifications of eligibility and information concerning the financial or other personal interests of current FHLBank appointive directors, candidates for appointment and their immediate families that may pose a conflict of interest under the conflicts of interest policy of the director's FHLBank.

Authority for maintenance of the system:

12 U.S.C. 1427(a) and (d); 12 CFR 915.10-915.12.

Purpose(s):

Records are collected to determine whether FHLBank appointive directors and candidates for appointment are in compliance with statutory and regulatory eligibility requirements.

* * * * *

Policies and practice for storing, retrieving, accessing, retaining and disposing of records in the system:

* * * * *

Retrievability:

Records are filed by FHLBank and alphabetically by name.

* * * * *

System manager(s) and address:

Office of the Chairman, Federal Housing Finance Board, 1777 F Street, NW., Washington, DC 20006.

Notification procedure:

Direct inquiries as to whether this system contains a record pertaining to an individual to the Privacy Act Official, Federal Housing Finance Board, 1777 F Street, NW., Washington, DC 20006, in accordance with the procedures set forth in 12 CFR part 913.

Record access procedures:

Direct requests for access to a record to the Privacy Act Official, Federal Housing Finance Board, 1777 F Street, NW., Washington, DC 20006, in accordance with the procedures set forth in 12 CFR part 913.

Contesting record procedures:

Direct requests to amend a record to the Privacy Act Official, Federal Housing Finance Board, 1777 F Street, NW., Washington, DC 20006, in accordance with the procedures set forth in 12 CFR part 913.

* * * * *

5. Remove the system of records entitled FHFB-5 Board of Directors.

6. Amend the system of records entitled FHFB-6 Agency Personnel Investigative Records as follows:

FHFB-5

System name:

Personnel Investigative Records.

* * * * *

Categories of records in the system:

Records contain information relating to the subject individual, including name, address, date and place of birth, Social Security number, citizenship, residence, foreign travel and contacts, education, personal references, organizational membership and security clearance history; investigative information regarding the subject individual's character, conduct and behavior in the community where he or she lives or lived, and arrests and convictions for violations of the law; reports from commercial credit agencies, interviews with the subject individual and with present and former supervisors, co-workers, associates, educators, etc., and inquiries with law enforcement agencies, employers, educational institutions attended; reports about the subject individual's qualifications for a specific position; correspondence relating to adjudication matters; reports of action after the OPM or Federal Bureau of Investigation section 8(d) Full Field Investigation; and other information developed from the above.

* * * * *

Purpose(s):

1. Records are collected in order to make, and are maintained in order to provide documentation, if necessary, to the OPM in order to support the Finance Board's determinations concerning compliance with Federal personnel regulations, the suitability and fitness of the subject individual for federal employment and access and security clearances, and the qualifications for performance of contractual services for the U.S. Government.

2. To provide information necessary to schedule and conduct required investigations.

3. To locate individuals for personnel research.

* * * * *

Policies and practice for storing, retrieving, accessing, retaining and disposing of records in the system:

* * * * *

Retention and disposal:

Records are retained until the subject individual terminates employment at the Finance Board, at which time the records are handled in accordance with OPM policy and procedures.

System manager(s) and address:

Office of Management, Federal Housing Finance Board, 1777 F Street, NW., Washington, DC 20006.

Notification procedure:

Direct inquiries as to whether this system contains a record pertaining to an individual to the Privacy Act Official, Federal Housing Finance Board, 1777 F Street, NW., Washington, DC 20006, in accordance with the procedures set forth in 12 CFR part 913.

Record access procedures:

Direct requests for access to a record to the Office of Personnel Management, Federal Investigations Processing Center, FOI/PA, Boyers, Pennsylvania 16018.

Contesting record procedures:

Direct requests to amend a record to the Privacy Act Official, Federal Housing Finance Board, 1777 F Street, NW., Washington, DC 20006, in accordance with the procedures set forth in 12 CFR part 913.

Record source categories:

Subject individual, including applications and other personnel and security forms and personal interview; police, military or naval reports; notices of personnel actions and investigative and other record material furnished by Federal agencies; and personal investigation, written inquiry, or computer linkage from sources such as former employees, former employers, educational institutions, references, neighbors, associates, police departments, courts, credit bureaus, medical records, probation officials, prison officials, newspapers, magazines, periodicals and other publications.

Exemptions claimed for the system:

Pursuant to 5 U.S.C. 552a(k)(5), a record contained in this system is exempt from 5 U.S.C. 552a(c)(3), (d), (e)(1), (e)(4)(G), (e)(4)(H), (e)(4)(I) and (f), to the extent that disclosure would reveal the identity of a source who furnished information to the government under an express promise that his or her identity would be held in confidence.

7. Add a new system of records entitled FHFB-6 Office of Inspector General Investigative Records to read as follows:

FHFB-6

System name:

Office of Inspector General Investigative Records.

Security classification:

None.

System location:

Federal Housing Finance Board, 1777 F Street NW, Washington, DC 20006.

Categories of individuals covered by the system:

1. Current and former Finance Board employees, others involved in the Finance Board's programs or operations, and any other persons who are or have been under investigation by the Finance Board's Office of Inspector General (OIG) in order to determine whether these individuals have been or are engaging in waste, fraud or abuse with respect to the Finance Board's programs or operations or other activities that violate federal criminal laws.

2. Complainants and witnesses where necessary for future retrieval.

Categories of records in the system:

Files on individual investigations including investigative reports and related documents generated during the course of or subsequent to an investigation. It includes electronic and hard copy case tracking systems, databases containing investigatory information, “Hotline” telephone logs, and investigator workpapers and memoranda and letter referrals to management or others.

Authority for maintenance of the system:

5 U.S.C. App. 4(a)(1) and 6(a)(2).

Purpose(s):

These records are collected, maintained and used by the OIG in its inquiries and investigations and reports relating to the administration of the Finance Board's programs and operations and to manage the investigatory program.

Routine uses of records maintained in the system, including categories of users and purposes of such uses:

Under normal circumstances, the OIG will not provide individually identifiable records. However, under those unusual circumstances when the OIG must release information contained in an individually identifiable record, the OIG will maintain proper safeguards to protect the information from unwarranted invasion of personal privacy. Subject to this general limitation, these records, or information therefrom, may be disclosed as a routine use to:

1. The appropriate federal, state or local agency or authority responsible for investigating or prosecuting a violation or potential violation of a criminal or civil law, rule or regulation or for enforcing or implementing a statute, rule or regulation if information in the system of records indicates such a violation.

2. A court, magistrate or administrative tribunal in the course of presenting evidence, including disclosures to counsel or witnesses in the course of civil discovery, litigation, or settlement negotiations or in connection with criminal proceedings.

3. A congressional office in response to an inquiry made at the request of the subject individual.

4. Any source, including a federal, state or local agency maintaining civil, criminal or other relevant enforcement information or other pertinent information, but only to the extent necessary for the OIG to obtain information relevant to an OIG investigation.

5. Another federal agency in response to a request made in connection with the hiring or retention of an individual, the issuance of a security clearance, the reporting of an investigation of an individual, the letting of a contract or issuance of a grant, license or other benefit by the requesting agency, but only to the extent that the information disclosed is necessary and relevant to the requesting agency's decision on the matter.

6. Other federal entities, such as other federal Offices of Inspector General or the General Accounting Office, or to a private party with which the OIG or the Finance Board has contracted for the purpose of auditing or reviewing the performance or internal management of the OIG's investigatory program, provided the record will not be transferred in a form that is individually identifiable, and provided further that the entity acknowledges in writing that it is required to maintain Privacy Act safeguards for the information.

In addition to the foregoing routine uses, a record which is contained in this system and derived from another Finance Board system of records may be disclosed as a routine use as specified in the Federal Register notice of the system of records from which the records derived.

Disclosure to consumer reporting agencies:

None.

Policies and practice for storing, retrieving, accessing, retaining and disposing of records in the system:

Storage:

Records are maintained in file folders, computer disks, electronic media and reports on each investigation.

Retrievability:

Records generally are indexed by name of person under investigation, investigation number, referral number or investigative subject matter.

Safeguards:

File folders are maintained in safes or lockable metal file cabinets stored in offices that are locked when not in use. Computer disks and electronic media are locked in the lockable metal file cabinets with their related file folders, and information not so lockable is kept in individual offices in locked or passworded computer hardware. Access to the information in the cabinets and individual offices is permitted only by and to specifically authorized personnel.

Retention and disposal:

Records in file folders are retained as long as needed and then destroyed by shredding. Computer disks are cleared, retired, or destroyed when no longer useful. Entries on electronic media are deleted or erased when no longer needed.

System manager(s) and address:

Office of Inspector General, Federal Housing Finance Board, 1777 F Street, NW, Washington, DC 20006.

Notification procedure:

Direct inquiries as to whether this system contains a record pertaining to an individual to the Privacy Act Official, Federal Housing Finance Board, 1777 F Street, NW, Washington, DC 20006, in accordance with the procedures set forth in 12 CFR part 913.

Record access procedures:

Direct requests for access to a record to the Privacy Act Official, Federal Housing Finance Board, 1777 F Street, NW, Washington, DC 20006, in accordance with the procedures set forth in 12 CFR part 913.

Contesting record procedures:

Direct requests to amend a record to the Privacy Act Official, Federal Housing Finance Board, 1777 F Street, NW, Washington, DC 20006, in accordance with the procedures set forth in 12 CFR part 913.

Record source categories:

The OIG collects information from many sources including the subject individuals, employees of the Finance Board and the Federal Home Loan Bank System, other government sources, witnesses and informants, and nongovernmental sources.

Exemptions claimed for the system:

Pursuant to 5 U.S.C. 552a(k)(5), a record contained in this system is exempt from 5 U.S.C. 552a(c)(3), (d), (e)(1), (e)(4)(G), (e)(4)(H), (e)(4)(I) and (f), to the extent that the records consists of investigatory material compiled:

(1) For law enforcement purposes; or

(2) For the purpose of determining suitability, eligibility or qualifications for federal civilian employment or federal contracts, and if disclosure of the record would reveal the identity of a source who furnished information to the government under an express promise that his or her identity would be held in confidence.

Notwithstanding the exemption, the Finance Board will provide a record if any right, privilege or benefit to which an individual would otherwise be entitled by Federal law, or for which the individual otherwise would be eligible, is denied as a result of the maintenance of the record, except to the extent that disclosure of the record would reveal the identity of a source who furnished information to the government under an express promise that his or her identity would be held in confidence.

Dated: June 18, 2003.
By the Federal Housing Finance Board.
Arnold Intrater,
General Counsel.

[FR Doc. 03-16561 Filed 7-2-03; 8:45 am]

BILLING CODE 6725-01-P